DEPARTMENT OF COMMERCE

National Oceanic and Atmospheric Administration

Agency Information Collection Activities; Submission to the Office of Management and Budget (OMB) for Review and Approval; Comment Request; Finance Program Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 19, 2023 during a 60-day comment period. This notice allows for an additional 30 days for public comments.

Agency: National Oceanic & Atmospheric Administration (NOAA), Commerce.

Title: Finance Program Requirements.

OMB Control Number: 0648-0012.

Form Number(s): 88-1.

Type of Request: Regular submission [extension of a current information collection].

Number of Respondents: 336.

Average Hours per Response: Program Application, 10 hours; Annual Financial Statement, 2 hours; Guarantor Consent, 5 minutes.

Total Annual Burden Hours: 1,194.

Needs and Uses: This request is for an extension of a currently approved information collection. The National Oceanic and Atmospheric Administration (NOAA) operates a direct loan program to assist in financing certain actions relating to commercial fishing vessels, shoreside fishery facilities, aquaculture operations, and individual fishing quotas. Application information is required to determine loan eligibility pursuant to 50 CFR part 253 and to determine the type and amount of financial assistance available to the applicant. Applicants are required to submit NOAA FORM 88-1, and supporting financial documents. An annual financial statement is required from the recipients to monitor the financial status of the loan. Small stylistic changes have been made to the NOAA FORM 88-1 to make the form easier for the applicant to understand and to fill electronically.

Affected Public: Individuals or households; business or other for-profit organizations.

Frequency: At application, annually thereafter.

Respondent's Obligation: Required to Obtain or Retain Benefits.

Legal Authority: 50 CFR part 253.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0012.

Sheleen Dumas,
Department PRA Clearance Officer, Office of the Under Secretary for Economic Affairs, Commerce Department.

[FR Doc. 2023-08472 Filed 4-20-23; 8:45 am]

BILLING CODE 3510-22-P